DEPARTMENT OF DEFENSE

Office of the Secretary

Privacy Act of 1974; System of Records

AGENCY: Office of the Secretary, DoD.

ACTION: Notice to add a system of records; DHRA 04—Joint Advertising and Market Research Recruiting Database.

SUMMARY: The Office of the Secretary of Defense proposes to add a system of records to its inventory of record systems subject to the Privacy Act of 1974 (5 U.S.C. 552a), as amended.

DATES: The changes will be effective on June 22, 2005, unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 601-4722, extension 110.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on May 4, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: May 18, 2005.
Jeannette Owings-Ballard,
OSD Federal Register Liaison Officer, Department of Defense.

DHRA 04

System name:

Joint Advertising and Market Research Recruiting Database.

System location:

BeNOW, 500 Edgewater Drive, Suite 525, Wakefield, MA 01880.

Categories of individuals covered by the system:

Names of high school students, aged 16-18; current college students; and Selective Service System registrants. Individuals who have taken the Armed Services Vocational Aptitude Battery (ASVAB) test; Individuals who have responded to various paid/non-paid advertising campaigns seeking enlistment information since July 1992; Current military personnel who are on Active Duty or in the Reserves. Individuals who are in the process of enlisting. Individuals who have asked to be removed from any future recruitment lists.

Categories of records in the system:

Full name, date of birth, gender, address, city, state, zip code, and where available Social Security Number (SSN), e-mail address, ethnicity, telephone number, high school name, graduation date, Grade Point Average (GPA) code, education level, college intent (if documented), military interest (if documented), field of study, current college attending, ASVAB Test date, ASVAB Armed Forces Qualifying Test Category Score.

Authority for maintenance of the system:

5 U.S.C. 301, Departmental Regulation; 10 U.S.C. 136, Under Secretary of Defense for Personnel and Readiness, and E.O. 9397 (SSN).

Purpose(s):

The purpose of the system of records maintained by the Joint Advertising, Market Research and Studies (JAMRS) is to provide a single central facility within the Department of Defense to compile, process and distribute files of individuals who meet age and minimum school requirements for military service. The information will be provided to the Services to assist them in their direct marketing recruiting efforts. The system also provides JAMRS with the ability to measure effectiveness of list purchases through ongoing analysis and to remove the names of individuals who are currently in, or are enlisting, in the Armed Forces or who have asked that their names be removed from future recruitment lists.

Routine uses of records maintained in the system, including categories of users and the purposes of such uses:

In addition to those disclosures generally permitted under 5 U.S.C. 552a(b) of the Privacy Act, These records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Records are maintained on electronic storage media.

Retrievability:

Records may be retrieved by individual's name, Social Security Number, or by address.

Safeguards:

Access to personal information is restricted to those who require the records in the performance of their official duties. Access to personal information is further restricted by the use of passwords that are changed periodically. Physical entry is restricted by the use of locks, guards, and administrative procedures.

Retention and disposal:

Destroy when 5 years old or 5 years after completion of a specific training program (General Records Schedule 1, Item 29(a)(1)).

System manager(s) and address:

Program Manager, Executive Information/Decision Support Program Office, Six Skyline Place, Suite 809, 5111 Leesburg Pike, Falls Church, VA 22041-3201.

Notification procedure:

Individuals seeking to determine whether information about themselves is contained in this system should address written inquiries to the Department of Defense, Defense Human Resources Activity, c/o JAMRS, Direct Marketing Program Officer, Defense Human Resources Activity, 4040 N. Fairfax Drive, Suite # 200, Arlington, Virginia 22203-1613.

Requests should contain the full name, Social Security Number, date of birth, current address, and telephone number of the individual.

Record access procedures:

Individuals seeking to determine whether this system of records contains information about themselves should address written inquiries to the Department of Defense, Defense Human Resources Activity, c/o JAMRS, Direct Marketing Program Officer, Defense Human Resources Activity, 4040 N. Fairfax Drive, Suite # 200, Arlington, Virginia 22203-1613.

The written requests should contain the full name, Social Security Number, date of birth, current address, and telephone number of the individual.

Contesting record procedures:

The OSD rules for accessing records, for contesting contents and appealing initial agency determinations are contained in OSD Administrative Instruction 81; 32 CFR part 311; or may be obtained from the system manager.

Record source categories:

Individuals; state Department of Motor Vehicle offices; commercial information brokers/vendors; Selective Service System; Defense Manpower Data Center (DMDC); United States Military Entrance Processing Command for individuals who have taken the ASVAB test; and the Military services and Congressional offices for individuals who have asked to be removed from any future recruitment lists.

Exemptions claimed for the system:

None.

[FR Doc. 05-10216 Filed 5-20-05; 8:45 am]

BILLING CODE 5001-06-P